DEPARTMENT OF HOUSING AND URBAN DEVELOPMENT

[Docket No. FR-5529-N-02]

Notice of Regulatory Waiver Requests Granted for the Second Quarter of Calendar Year 2011

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2011, and ending on June 30, 2011.

FOR FURTHER INFORMATION CONTACT: For general information about this notice, contact Camille E. Acevedo, Associate General Counsel for Legislation and Regulations, Department of Housing and Urban Development, 451 7th Street, SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2011.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2011 through June 30, 2011. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are set out in time sequence beginning with the earliest-dated regulatory waiver.

Should HUD receive additional information about waivers granted during the period covered by this report (the first quarter of calendar year 2011) before the next report is published (the second quarter of calendar year 2011), HUD will include any additional waivers granted for the first quarter in the next report.

Accordingly, information about approved waiver requests pertaining to HUD regulations is provided in the Appendix that follows this notice.

Dated: September 21, 2011.
Helen R. Kanovsky,
General Counsel.

Appendix—Listing of Waivers of Regulatory Requirements Granted by Offices of the Department of Housing and Urban Development April 1, 2011 through June 30, 2011

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulation: 24 CFR 58.22(a).

Project/Activity: The project involve the demolition of blighted buildings, removal of debris and other related materials, and finished grading/seeding of two former commercial properties located along Front Street in Berea, Ohio. The two former commercial operations were the William Ford Auto Dealership and the Serpentini Used Car Lot located at 739 and 566 Front Street, respectively. The city of Berea acquired these two properties as a consequence of a federally funded, state and local roadway improvement project.

Cuyahoga County, the Responsible Entity for the project, did not conduct the correct level of environmental review for both projects as required by 24 CFR part 58. The failure to conduct environmental assessments resulted in a lack of an approved Request for Release of Funds before the properties were demolished using non-HUD funds.

Subsequent to identifying the properties for participation in the Neighborhood Stabilization program in response to a solicitation from Cuyahoga County Land Reutilization Corporation (CCLRC) for demolition proposals, but prior to any release of funds from HUD, the CCLRC used non-HUD funds to demolish the buildings.

Nature of Requirement: The regulation requires that an environmental review be performed and a Request for Release of Funds be completed and certified prior to the commitment of non-HUD funds to a project using HUD funds.

Granted By: Mercedes Márquez, Assistant Secretary for Community Planning and Development.

Date Granted: April 29, 2011.

Reason Waived: The waiver was granted because the above project would further the HUD mission and advance HUD program goals to develop viable, quality communities. The County erroneously conducted an improper level of environmental review. No HUD funds were committed. Granting the waiver would not result in any unmitigated, adverse environmental impact.

Contact: Danielle Schopp, Office of Environment and Energy, Office of Community Planning and Development, Department of Housing and Urban Development, 451 Seventh Street, SW., Room 7250, Washington, DC 20410-7000, telephone (202) 402-4442.

• Regulation: 24 CFR 85.31(c)(2).

Project/Activity: In 1993, the City of San Francisco awarded the Bernal Heights Neighborhood Center's Housing Services Affiliate (HSA) a Housing Opportunities for Persons With Aids (HOPWA) formula grant in the amount of $409,550 to acquire and rehabilitate Stinson House, a six unit facility-based housing project for low-income persons living with HIV/AIDS. In May 2010, HSA sold the facility following an organizational assessment on financial constraints, the building's state of deterioration, and the high cost of rehabilitation. The city used the sale proceeds to respond to community needs and address the critical housing needs of HOPWA eligible clients who prefer independent housing with on-site supportive services rather than the Stinson House model of shared housing with off-site supportive services. These actions were taken prior to requesting guidance on property disposition from HUD as the funding authority, which violated HUD regulations regarding disposition of real property. A single audit of the city's HOPWA program questioned whether the city has complied with HOPWA regulations regarding the disposition of real property and the use of sales proceeds to fund eligible program activities.

Nature of Requirement: HUD regulations at 24 CFR 85.31(c) require a grantee or subgrantee to request property disposition instructions when real property purchased with federal funding is no longer needed for the originally authorized purpose. In the event that disposition instructions from the awarding agency call for the sale of the property, the regulation at 24 CFR 85.31(c)(2) requires a grantee or subgrantee to engage in sales procedures that provide for competition to the extent practicable and to compensate the awarding agency based on the awarding agency's participation in the cost of the original purchase to the proceeds of the sale after deduction of any actual or reasonable selling and fixing up expenses. HOPWA grantees and subgrantees are required to comply with 24 CFR 85.31(c), applicable to the HOPWA program at 24 CFR 574.605. Section 574.605 of the HOPWA regulations governs the disposition of real property that is acquired in whole or in part with HOPWA grant funding.

Granted By: Mercedes Márquez, Assistant Secretary for Community Planning and Development.

Date Granted: May 23, 2011.

Reason Waived: The waiver was granted based on the following findings: HOPWA program purposes were served by the project in assisting beneficiaries during the minimum use period and later by the return of the property's sales proceeds to the city, which in turn were used in providing housing assistances to other HOPWA beneficiaries in the San Francisco area. There was no evidence to suggest that the city intentionally non-complied with HOPWA program regulations.

Contact: Mark Johnston, Deputy Assistance Secretary for Special Needs, Office of Community Planning and Development, Department of Housing and Urban Development, 451 Seventh Street, SW., Room 7276, Washington, DC 20410-7000, telephone (202) 708-1590.

• Regulation: 24 CFR 570.208(a)(3) as it applies through 24 CFR 570.703.

Project/Activity: The City of Dallas, Texas requested waiver of the criteria for national objective at 24 CFR 570.208(a)(3), as it applies through 24 CFR 570.703, for the rehabilitation of multifamily housing in a mixed use commercial and residential development in its Central Business District (CBD). The city of Dallas submitted a request for Section 108 Guaranteed Loan funds in the amount of $7,600,000 to assist with the redevelopment and rehabilitation of the Continental Building, a vacant office building in the city's CDB, into 5,000 square feet of commercial space and 203 multi-family rental units that are 1 bedroom and 2 bedroom apartments of which 20 percent (41 units) will be occupied by low- and moderate-income (LMI) households. Section 108 funds will only be used for housing rehabilitation, which is an eligible activity pursuant to 24 CFR 570.703(h). However, the proposed activity did not meet the LMI national objectives criteria because less than 51 percent of the units will be occupied by LMI households. Therefore, the city requested a waiver to apply the exception at 24 CFR 570.208(a)(3)(i) to reduce the percentage of LMI occupied units from 51 percent to 20 percent. The Section 108 funds will account for less than 20 percent of total development costs for the project. The request would prevent the loss of 41 units of affordable housing that would not otherwise be available.

Nature of Requirement: HUD's regulation at 24 CFR 570.208(a)(3) generally provides that, in the case of acquisition or rehabilitation of residential structures with more than two units, at least 51 percent of such units must be occupied by LMI households. However, the exception at 24 CFR 570.208(a)(3)(i) permits Community Development Block Grant funds (which term includes the proceeds of a Section 108 loan) to be used to support the new construction of non-elderly rental housing when not less than 20 percent of the units will be occupied by low- and moderate-income households at affordable rents and the proportion of the total cost of the project borne by CDBG funds is no greater than the proportion of units that will be occupied by low- and moderate-income households.

Granted By: Mercedes Márquez, Assistant Secretary for Community Planning & Development.

Date Granted: June 30, 2011.

Reason Waived: HUD granted the waiver because the city of Dallas showed good cause by demonstrating that the project would not be financially feasible without the Section 108 loan funds and if it were required to have 51 percent of the units occupied by LMI households. This would result in the project not being developed and the loss of 41 affordable housing units that would otherwise be available. In addition, the city demonstrated that the project would promote housing and economic revitalization goals by assisting in its efforts of increasing affordable housing in the CBD and increasing mixed-income housing through spatial deconcentration, which furthers the purpose of the Housing and Community Development Act of 1974, as amended, as it relates to providing decent housing and a suitable living environment, reducing the isolation of income groups within communities, and promoting an increase in diversity of neighborhoods through the special deconcentration of housing opportunities for persons of lower income. In addition, HUD granted the waiver with mandatory conditions, including the requirements that the City provide HUD a copy of its plan to address rental housing needs of low-income families that demonstrates how the Continental Building project is consistent with the housing needs described in its Consolidated Plan (see 24 CFR 91.205), provide HUD with copies of compliance and monitoring plans for other identified Section 108 projects, provide HUD with a schedule for adopting and publishing standards for determining affordable rents, and ensure a 15-year affordability requirement for the Continental Building project.”

Contact: Paul D. Webster, Director, Financial Management Division, Office of Block Grant Assistance, Office of Community Planning and Development, Department of Housing and Urban Development, 451 Seventh Street, SW., Room 7178, Washington, DC 20410-7000, telephone: (202) 708-1871.

• Regulation: 24 CFR 574.330 (a)(1) and (b(1).

Project/Activity: The Downtown Emergency Service Center (DESC) located in Seattle, Washington, requested an additional waiver of the HOPWA short-term supported housing regulations for which they were granted a waiver by HUD on September 9, 2010. DESC is a HOPWA competitive grant recipient that provides permanent and supportive services to persons living with HIV/AIDS. HUD had previously determined that DESC provided short-term supported housing to 60 families, beyond the limit of 50 families as prescribed in the HOPWA regulation. In addition, the program was also supporting these families for longer than the allotted six-month period. DESC has complied with the requirements of the first waiver and has submitted documentation to substantiate its difficulty in identifying permanent housing for those with complex mental health issues and criminal records.

Nature of Requirement: HOPWA regulations at 24 CFR 574.330 (a)(1) and (b(1) require that short-term supported housing facilities not provide residence to any individual for more than 60 days during any six month period. Rent, mortgage, and utilities payments to prevent the homelessness of the tenant or mortgagor of a dwelling may not be provided to such an individual for these costs accruing over a period of more than 21 weeks in any 52 week period. These regulations also require that any short-term supported facility not provide shelter or housing at any single time for more than 50 families or individuals.

Granted By: Mercedes Márquez, Assistant Secretary for Community Planning and Development.

Date Granted: April 21, 2011.

Reason Waived: The waiver was granted based on the following findings: The grantee and project sponsor acted in good faith to identify more permanent housing options for its program beneficiaries. They were compliant with the requirements and given the extenuating circumstances in identifying more suitable housing, the waiver would enable DESC to continue addressing the emergency shelter needs of those difficult to house homeless individuals with challenging mental health issues. The waiver will expire six months from the date of approval and applies only to DESC service area.

Contact: Mark Johnston, Deputy Assistance Secretary for Special Needs, Office of Community Planning and Development, Department of Housing and Urban Development, 451 Seventh Street, SW., Room 7276, Washington, DC 20410-7000, telephone (202) 708-1590.

• Regulation: Section IV.D of the Notice of Allocations, Application Procedures, and Requirements for Homeless Prevention and Rapid Re-Housing Program (HPRP) Grantees under the American Recovery and Reinvestment of 2009, issued March 19, 2009 (HPRP Notice).

Project/Activity: HUD extended a limited waiver of the HPRP participant eligibility requirements to the State of Kentucky, the City of Louisville, and the City of Baltimore to facilitate those grantees' participation in the HUD-funded study, The Impact of Housing and Services Interventions on Homeless Families.

Nature of Requirement: Section IV.D of the HPRP Notice provides that all participants must meet the following minimum eligibility criteria: (1) Have at least an initial consultation with a case manager to determine the appropriate type of assistance; (2) be at or below 50 percent Area Median Income (AMI); (3) be homeless or at risk of losing housing; (4) have failed to identify appropriate subsequent housing options; and (5) lack the financial resources and support networks needed to maintain or obtain immediate housing. Section IV.D also requires grantees to evaluate and certify participant eligibility at least once every three months for all persons receiving medium-term rental assistance.

Granted By: Mercedes Márquez, Assistant Secretary for Community Planning and Development.

Date Granted: April 1, 2011.

Reason Waived: As part of the HUD-funded study, HUD waived the HPRP eligibility requirements so that the grantees and their subgrantees could provide rapid re-housing assistance to randomly assigned homeless families without verifying those families' eligibility for HPRP.

Contact: Ann M. Oliva, Director, Office of Special Needs Assistance Programs, Office of Community Planning and Development, U.S. Department of Housing and Urban Development, 451 Seventh Street, SW., Room 7262, Washington, DC 20410-7000, telephone number (202) 708-4300.

II. Regulatory Waivers Granted by the Office of Housing—Federal Housing Administration (FHA)

For further information about the following regulatory waivers, please see the name of the contact person that immediately follows the description of the waiver granted.

• Regulation: 24 CFR 202.5(g).

Project/Activity: Applicants for Federal Housing Administration (FHA) lender approval or renewal as supervised lenders and mortgagees possessing consolidated assets below the thresholds for required submission of annual audited financial statements set by their respective regulators at 12 CFR 363.1(a), 12 CFR 562.4(b)(2), or 12 CFR 715.4(c).

Nature of Requirement: Section 202.5(g) requires supervised, non-supervised, and investing lenders or mortgagees to furnish to FHA a copy of their annual audited financial statements within 90 days of the lender or mortgagee's fiscal year end in order to obtain or renew FHA lender approval. The other requirements of this section were not waived.

Granted By: Robert C. Ryan, Acting Assistant Secretary for Housing—Federal Housing Commissioner.

Date Granted: April 7, 2011.

Reason Waived: For some small supervised lenders and mortgagees that originate low volumes of FHA loans, the new expense for obtaining audited financial statements may be deemed too burdensome to justify continued participation in FHA programs as approved lenders and mortgagees. Due to the fact that many of these small supervised lenders and mortgagees are located in rural communities that possess a limited selection of residential mortgage lending entities, the relinquishment of FHA lender approval by these institutions may decrease access to FHA programs for some rural communities. In the midst of the present economic recovery, and given FHA's more prominent role in the nation's mortgage market at present, a reduction in the availability of FHA-insured mortgage credit could adversely impact the recovery of some states and communities. A waiver of the new audited financial statement requirements for supervised lenders meeting the designated consolidated asset thresholds helped to ensure the continued availability of FHA products throughout the nation, and would not pose significant additional risk to FHA's insurance funds.

Contact: Richard Toma, Deputy Director, Office of Lender Activities and Program Compliance, Office of Housing, Department of Housing and Urban Development, 490 L'Enfant Plaza East, SW., Room P3214, Washington, DC 20024-8000, telephone (202) 708-1515.

• Regulation: 24 CFR 203.41(a)(5)

Project/Activity: The waiver was not granted in connection with the FHA Inspector Roster.

Nature of Requirement: The introductory language in section 203.41(a)(5) defines “eligible nonprofit organization,” in part, as an organization of the type described in section 501(c)(3) of the Internal Revenue Code of 1986 (IRC) as an organization exempt from federal taxation under IRC § 501(a). FHA has received several requests from nonprofit instrumentalities of government, whose income is excluded from federal taxation pursuant to IRC section 115, seeking placement on the Roster and approval to provide secondary financing. Although these nonprofit instrumentalities satisfy all other FHA requirements for placement on the Roster and would otherwise be eligible to provide secondary financing, they are not organizations of the type described in section 501(c)(3). Thus, without the waiver, they are ineligible for placement on the Roster as providers of secondary financing. This waiver enables IRC section 115 nonprofit government instrumentalities to be placed on the Roster so they can provide affordable housing opportunities to more Americans via secondary financing until the regulations are amended. The waiver does not provide IRC section 115 nonprofit entities with the ability to purchase either FHA REO or to obtain FHA-insured mortgage financing.

This waiver also waived the regulations at 24 CFR 203.41(a)(5)(ii), which requires that all nonprofit organizations participating in FHA programs have a voluntary board. The voluntary board requirement (i.e., no financial compensation to board members) is waived for all IRC section 115 nonprofit instrumentalities of government seeking placement on the FHA Roster and approval to participate in FHA programs as providers of secondary financing. This waiver will enable an IRC section 115 nonprofit instrumentality of government to have a board member who also is a salaried employee of the governmental body in control of the nonprofit instrumentality.

Granted By: Robert C. Ryan, Acting Assistant Secretary for Housing—Federal Housing Commissioner

Date Granted: June 17, 2011

Reason Waived: This waiver is a renewal of the waiver issued September 10, 2010 and is made retroactive to cover any period that has lapsed between February 23, 2011 and the official date this waiver is signed. Single Family has initiated the process for official rulemaking to offer a permanent solution to the needed change in policy.

Contact: Brian Siebenlist, Department of Housing and Urban Development, 451 7th Street, SW., Room B-133—Plaza 2206, Washington, DC 20410.

• Regulation: 24 CFR 219.220(b).

Project/Activity: Emerson Center Apartments—FHA Project Number 083-44801. The owner requested to defer repayment of the Flexible Subsidy Operating Assistance Loan on this project due to the project owner's inability to repay the loan in full or partially upon maturity.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing-Federal Housing Commissioner.

Date Granted: April 27, 2011.

Reason Waived: The owner requested and was granted waiver of the requirement to defer repayment of the Flexible Subsidy Operating Assistance Loan because the project did not have sufficient funds to repay the loan. The owner was allowed to fully re-amortize the existing loan and record a Rental Use Agreement for a 20-year term through 2031, thereby maintaining the long-term preservation of the project as an affordable housing resource.

Contact: Marilyn M. Edge, Acting Director, Office of Asset Management, Office of Housing, Department of Housing and Urban Development, 451 Seventh Street, SW., Washington, DC 20410-8000, telephone (202) 708-3730.

• Regulation: 24 CFR 219.220(b).

Project/Activity: HRCA Housing for the Elderly/Jack Satter House—FHA Project Number 023-EH001, Revere, Massachusetts. The owner requested to defer repayment of the Flexible Subsidy Loan to achieve the long-term preservation of this project as affordable housing for the elderly.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing-Federal Housing Commissioner.

Date Granted: April 14, 2011.

Reason Waived: The owner demonstrated that deferral of repayment of the Flexible Subsidy Operating Assistance Loan is necessary to achieve the long-term preservation of the project. Approval of this waiver would allow the owner to re-amortize the loan over a 35-year period, the term of the new financing, and complete much needed repairs at the project and maintain the project's financial and physical integrity.

Contact: Marilyn M. Edge, Acting Director, Office of Asset Management, Office of Housing, Department of Housing and Urban Development, 451 Seventh Street, SW., Washington, DC 20410-8000, telephone (202) 708-3730.

• Regulation: 24 CFR 219.220(b).

Project/Activity: Blue Lake Residences, Twin Lakes, Michigan—FHA Project Number 047-35227. The owner of the property is unable to repay the Flexible Subsidy Operating Assistance Loan without dire consequences to the property and residents that reside there.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing-Federal Housing Commissioner.

Date Granted: April 26, 2011, amended July 29, 2011.

Reason Waived: Providing for waiver of this regulation would allow the owner to defer repayment of the Flexible Subsidy Loans over a 30-year period and recapitalize the property. A Rental Use Agreement would be recorded for the term of the new FHA insured mortgage to 2041, thereby restoring the financial and physical soundness to the property. The project would, thereby, be maintained as an affordable housing resource.

Contact: Marilyn M. Edge, Acting Director, Office of Asset Management, Office of Housing, Department of Housing and Urban Development, 451 Seventh Street, SW., Washington, DC 20410-8000, telephone (202) 708-3730.

• Regulation: 24 CFR 219.220(b).

Project/Activity: Bethany Villa I Apartments, Troy, Michigan—FHA Project Number 044-SH022. The owner requested waiver of this regulation to permit deferral of repayment of the Flexible Subsidy Loans upon prepayment of the project's mortgage. The owner was unable to repay the loan partially or fully upon prepayment of the project's mortgage.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing-Federal Housing Commissioner.

Date Granted: May 6, 2011.

Reason Waived: Waiver of this regulation was granted to allow the owner to defer repayment of the Flexible Subsidy Operating Assistance Loan, and refinance with a new FHA-insured mortgage to redevelop the property. The owner would then be able to make much needed repairs and the project would be maintained as decent, safe and sanitary housing for its residents. A new Rental Use Agreement is to be recorded for a term of 35 years, preserving housing affordability for the Troy, Michigan area.

Contact: Marilyn M. Edge, Acting Director, Office of Asset Management, Office of Housing, Department of Housing and Urban Development, 451 Seventh Street, SW., Washington, DC 20410-8000, telephone (202) 708-3730.

• Regulation: 24 CFR 219.220(b).

Project/Activity: Bethany Villa II Apartments, Troy, Michigan—FHA Project Number 044-44092. The owner has requested waiver of this regulation to permit deferral of repayment of the Flexible Subsidy Loans upon prepayment of the project's mortgage. The owner is unable to repay the loan partially or fully upon prepayment of the project's mortgage.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing—Federal Housing Commissioner.

Date Granted: June 21, 2011.

Reason Waived: Sufficient need was determined and waiver of this regulation was granted to allow the owner to defer repayment of the Flexible Subsidy Operating Assistance Loan. Waiver of this requirement would prevent dire consequences to the property and the residents that reside there. The project would be able to make much needed repairs to the property and allow the project to be maintained as decent, safe and sanitary housing. A new Rental Use Agreement is to be recorded for a term of 35 years, preserving housing affordability for the Troy, Michigan area.

Contact: Marilyn M. Edge, Acting Director, Office of Asset Management, Office of Housing, Department of Housing and Urban Development, 451 Seventh Street, SW., Washington, DC 20410-8000, telephone (202) 708-3730.

• Regulation: 24 CFR 219.220(b).

Project/Activity: Redeemers Arms Apartments, St. Paul, Minnesota—FHA Project Number 092-SH017. The owner requested deferral of repayment of the Flexible Subsidy Operating Assistance Loans upon prepayment of the project's mortgage to restore the financial soundness of the project and complete needed rehabilitation.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing—Federal Housing Commissioner.

Date Granted: June 21, 2011.

Reason Waived: The owner was granted permission to defer repayment of the Flexible Subsidy Operating Assistance Loans, and transfer ownership of the property to a non-profit entity. The proposed rehabilitation will modernize this aging property and improve the quality of life for the residents. The loan is to be re-amortized, and a new Rental Use Agreement will be recorded, extending the project's affordability for an additional 33 years.

Contact: Marilyn M. Edge, Acting Director, Office of Asset Management, Office of Housing, Department of Housing and Urban Development, 451 Seventh Street, SW., Washington, DC 20410-8000, telephone (202) 708-3730.

• Regulation: 24 CFR 219.220(b).

Project/Activity: Union Acres Trust, Center, Texas—FHA Project Number 114-35034. The owner has requested waiver of this regulation to permit deferral of repayment of the Flexible Subsidy Loans upon prepayment of the project's mortgage.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing—Federal Housing Commissioner.

Date Granted: May 26, 2011.

Reason Waived: The owner was granted permission to defer repayment of the Flexible Subsidy Operating Assistance Loans. The owner had proposed to transfer ownership of the property to a non-profit entity that would provide funds for the much needed rehabilitation of the property. The loan is to be re-amortized over a 40-year period with new financing, and a new Rental Use Agreement. This would provide long-term preservation of affordable housing for Center, Texas.

Contact: Marilyn M. Edge, Acting Director, Office of Asset Management, Department of Housing and Urban Development, 451 Seventh Street, SW., Washington, DC 20410-8000, telephone (202) 708-3730.

• Regulation: 24 CFR 219.220(b).

Project/Activity: Better Housing for Erie, Erie, Pennsylvania—FHA Project Number 033-35008. The owner has requested waiver of this regulation to permit deferral of repayment of the Flexible Subsidy Loans upon prepayment of the project's mortgage.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing—Federal Housing Commissioner.

Date Granted: June 21, 2011.

Reason Waived: The owner was granted permission to defer repayment of the Flexible Subsidy Operating Assistance Loans, to restore the financial soundness of the project. The owner obtained financing from a non-profit agency and the new loan is to be amortized over 10 years. The existing Flexible Subsidy Loan is to be reduced and be fully re-amortized over a 20-year period. A new 20-year HAP contract is to be executed extending the affordability of this project.

Contact: Marilyn M. Edge, Acting Director, Office of Asset Management, Office of Housing, Department of Housing and Urban Development, 451 Seventh Street, SW., Washington, DC 20410-8000, telephone (202) 708-3730.

• Regulation: 24 CFR 219.220(b).

Project/Activity: Alpha Arms Apartments, Goldsboro, NC—053-44135. The owner has requested waiver of this regulation to permit deferral of repayment of the Flexible Subsidy Loans upon prepayment of the project's mortgage.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing—Federal Housing Commissioner.

Date Granted: May 3, 2011.

Reason Waived: The owner was granted permission to defer repayment of the Flexible Subsidy Operating Assistance Loan upon prepayment/refinance of the Section 236 mortgage. The owner proposed to refinance the project which would provide funds to make urgent physical repairs, replacements and updates. Alpha Arms is to execute a new Rental Use Agreement, extending the affordability of the project for 40 years.

Contact: Marilyn M. Edge, Acting Director, Office of Asset Management, Office of Housing, Department of Housing and Urban Development, 451 Seventh Street, SW., Washington, DC 20410-8000, telephone (202) 708-3730.

• Regulation: 24 CFR 219.220(b).

Project/Activity: Mt. Zion Garden Apartments, Albany, Georgia—061-35005. The owner has requested waiver of this regulation to permit deferral of repayment of the Flexible Subsidy Loans upon prepayment of the project's mortgage.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project * * *.” Either of these actions would typically terminate FHA involvement with the property, and the Flexible Subsidy Loan would be repaid, in whole, at that time.

Granted By: Robert C. Ryan, Acting Assistant Secretary for Housing—Federal Housing Commissioner.

Date Granted: May June 21, 2011.

Reason Waived: The owner was granted permission to defer repayment of the Flexible Subsidy Operating Assistance Loan upon prepayment/refinance of the Section 223(f) mortgage. The owner proposed to refinance the project which would provide funds to make much needed physical repairs at the project. The owner is to execute a Rental Use Agreement for the 20-year term of the re-amortized Note, extending the project as an affordable housing resource for the Albany area.

Contact: Marilyn M. Edge, Acting Director, Office of Asset Management, Office of Housing, Department of Housing and Urban Development, 451 Seventh Street, SW., Washington, DC 20410-8000, telephone (202) 708-3730.

• Regulation: 24 CFR 891.100(d).

Project/Activity: Liberty Resources 13, Philadelphia, PA; Project Number: 042-EE206/OH12-S061-004.

Nature of Requirement: Section 891.100(d) prohibits amendment of the amount of the approved capital advance funds prior to closing.

Granted By: Robert C. Ryan, Acting Assistant Secretary for Housing—Federal Housing Commissioner.

Date Granted: April 7, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 Seventh Street, SW., Room 6142 Washington, DC 20410-8000, telephone (202) 708-3000.

• Regulation: 24 CFR 891.100(d).

Project/Activity: The Village at Oasis Park Phase I, Mesa, AZ, Project Number: 123-HD042/AZ20-Q081-002.

Nature of Requirement: Section 891.100(d) prohibits amendment of the amount of the approved capital advance funds prior to closing.

Granted By: Robert C. Ryan, Acting Assistant Secretary for Housing—Federal Housing Commissioner.

Date Granted: April 29, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 Seventh Street, SW., Room 6142, Washington, DC 20410-8000, telephone (202) 708-3000.

• Regulation: 24 CFR 891.100(d).

Project/Activity: Evergreen Terrace, Albany, OH; Project Number: 043-124OH16-S081-003.

Nature of Requirement: Section 891.100(d) prohibits amendment of the amount of the approved capital advance funds prior to closing.

Granted By: Robert C. Ryan, Acting Assistant Secretary for Housing—Federal Housing Commissioner.

Date Granted: May 11, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 Seventh Street, SW., Room 6142,Washington, DC 20410-8000, telephone (202) 708-3000.

• Regulation: 24 CFR 891.100(d).

Project/Activity: Shiloh Senior Housing, New Rochelle, NY, Project Number: 012-EE361/NY36-S071-007.

Nature of Requirement: Section 891.100(d) prohibits amendment of the amount of the approved capital advance funds prior to closing.

Granted By: Robert C. Ryan, Acting Assistant Secretary for Housing—Federal Housing Commissioner.

Date Granted: May 24, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 Seventh Street, SW., Room 6142, Washington, DC 20410-8000, telephone (202) 708-3000.

• Regulation: 24 CFR 891.100(d).

Project/Activity: Project Number: 042-EE206/OH12-S061-004.

Nature of Requirement: Section 891.100(d) prohibits amendment of the amount of the approved capital advance funds prior to closing.

Granted By: Robert C. Ryan, Acting Assistant Secretary for Housing—Federal Housing Commissioner.

Date Granted: April 7, 2011.

Reason Waived: The project is economically designed and comparable in cost to similar projects in the area, and the sponsor/owner exhausted all efforts to obtain additional funding from other sources.

Contact: Aretha Williams, Acting Director, Office of Housing Assistance and Grant Administration, Office of Housing, Department of Housing and Urban Development, 451 Seventh Street, SW., Room 6142, Washington, DC 20410-8000, telephone (202) 708-3000.

• Regulation: 24 CFR 891.130(b).

Project/Activity: Armory Lane Housing Limited Partnership, Vergennes, VT, Project Number: 024-EE136/VT36-S091-004.

Nature of Requirement: Section 891.130(b) prohibits an identity of interest between the sponsor or owner (or borrower, as applicable) and any development team member or between development team members until two years after final closing.

Granted By: Robert C. Ryan, Acting Assistant Secretary for Housing—Federal Housing Commissioner.

Date Granted: April 28, 2011.

Reason Waived: To permit an identity of interest for the mixed financed project between the ownership entity and the joint developer, and between the two development team members, the contractor and joint developer.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: Leeway Welton Apartments, New Haven, CT, Project Number: 017-HD041/CT26-Q071-002.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: April 8, 2011.

Reason Waived: Additional time was needed for the project to achieve an initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: St. Bernard Volunteers of America Elderly Housing, St. Bernard, OH, Project Number: 046-EE097/OH10-S081-005.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: April 11, 2011.

Reason Waived: Additional time was needed for the firm commitment to be issued and for the project to be initially closed.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: Champion Place, Perry, New York, Project Number: 014-EE274/NY06-S081-006.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: April 12, 2011.

Reason Waived: Additional time was needed for the firm commitment application to be processed and for the project to achieve initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: City of Utica Section 811 Project, Utica, NY, Project Number: 014-HD132/NY06-S081-001.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: April 15, 2011.

Reason Waived: Additional time was needed for the firm commitment application to be processed and for the project to achieve initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: RJ Piltz Vista Bonita Apartments, Mesa, AZ; Project Number: 123-HD041/AZ20-Q061-003.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: May 5, 2011.

Reason Waived: Additional time was needed to reach an initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: Fillmore Haciendas, Phoenix, AZ; Project Number: 123-EE105/AZ20-S071-001.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: May 5, 2011.

Reason Waived: Additional time was needed to reissue the firm commitment and for the project to reach an initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: West Bergen ILP 2005, Ridgewood, NJ; Project Number: 031-HD145/NJ39-Q051-001.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: May 5, 2011.

Reason Waived: Additional time was needed for the project to reach initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: Quincy Commons, Roxbury, MA; Project Number: 023-EE227/MA06-S081-006.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: May 23, 2011.

Reason Waived: Additional time was needed to secure secondary funding upon completion of this mixed finance project and to achieve an initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: Shiloh Senior Housing, New Rochelle, NY; Project Number: 012-EE361/NY36-S071-007.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: May 27, 2011.

Reason Waived: Additional time was needed to reach initial closing and the start of construction.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: Allen by The Bay Senior Housing, Queens, NY; Project Number: 012-EE368/NY36-S081-004.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: June 14, 2011.

Reason Waived: Additional time was needed for the completion of the sale of the tax exempt bonds by New York and for the project to reach an initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.165.

Project/Activity: CPNJ Livingston Residence, Livingston, NJ, Project Number: 031-HD157/NJ39-Q081-003.

Nature of Requirement: Section 891.165 provides that the duration of the fund reservation of the capital advance is 18 months from the date of issuance with limited exceptions up to 24 months, as approved by HUD on a case-by-case basis.

Granted By: Robert C. Ryan, Acting Assistant Secretary for Housing—Federal Housing Commissioner.

Date Granted: June 21, 2011.

Reason Waived: Additional time was needed for the sponsor/owner to receive a response from the New Jersey Department of Environmental Protection (NJDEP) regarding the boundaries of the riparian buffer so the architectural plans and specs could be finalized, submit the firm commitment, and for the project to reach initial closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.170(a), 24 CFR 891.830(b) and 24 CFR 891.830(c)(4).

Project/Activity: Shiloh Senior Housing, New Rochelle, NY; Project Number: 012-EE361/NY36-S071-007.

Nature of Requirement: Section 891.170(a) requires that a capital advance shall bear no interest and its repayment shall not be required so long as the housing project remains available for very low-income elderly families or persons with disabilities. Section 891.830(b) requires that capital advance funds be drawn down only in an approved ratio to other funds, in accordance with a drawdown schedule approved by HUD and § 891.830(c)(4) prohibits the capital advance funds from paying off bridge or construction financing, or repaying or collateralizing bonds.

Granted By: Robert C. Ryan, Acting Assistant Secretary for Housing—Federal Housing Commissioner.

Date Granted: May 24, 2011.

Reason Waived: The waiver was granted to permit the sole general partner of the subject project to be a for-profit corporation that is wholly owned and controlled by the nonprofit sponsor. The waiver was granted to also allow the capital advance to be drawn down in one requisition, to pay off that portion of a bridge or construction financing, or bonds that strictly relate to capital advance eligible costs after completion of construction at initial/final closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.805.

Project/Activity: Cheriton Heights, West Roxbury, MA, Project Number: 023-EE225/MA06-S081-001.

Nature of Requirement: Section 891.805 requires that the Sole General Partner of the Mixed Finance owner be a Private Nonprofit Organization with a 501(c)(3) or 501(c)(4) tax exemption (in the case of supportive housing for the elderly), or a Nonprofit Organization with a 501(c)(3) (in the case of supportive housing for persons with disabilities.

Granted By: Robert C. Ryan, Acting Assistant Secretary for Housing—Federal Housing Commissioner.

Date Granted: May 11, 2011.

Reason Waived: To permit the sole general partner of the subject project to be a for-profit corporation that is wholly owned and controlled by the nonprofit sponsor.

Contact: Aretha Williams, Acting Director, Office of Housing Assistance and Grant Administration, Office of Housing, Department of Housing and Urban Development, 451 Seventh Street, SW., Room 6142, Washington, DC 20410-8000, telephone (202) 708-3000.

• Regulation: 24 CFR 891.830(c)(4).

Project/Activity: Shiloh Senior Housing, New Rochelle, NY, Project Number: 012-EE361/NY36-S071-007.

Nature of Requirement: Section 891.830(c)(4) requires that capital advance funds be drawn down only in an approved ratio to other funds, in accordance with a drawdown schedule approved by HUD.

Granted By: Robert C. Ryan, Acting Assistant Secretary for Housing—Federal Housing Commissioner.

Date Granted: June 6, 2011.

Reason Waived: The waiver was granted to permit the sole general partner of the subject project to be a for-profit corporation that is wholly owned and controlled by the nonprofit sponsor. The waiver was granted to also allow the capital advance to be drawn down in one requisition, to pay off that portion of a bridge or construction financing, or bonds that strictly relate to capital advance eligible costs after completion of construction at initial/final closing.

Contact: Aretha Williams, Acting Director, Office of Housing Assistance and Grant Administration, Office of Housing, Department of Housing and Urban Development, 451 Seventh Street, SW., Room 6142, Washington, DC 20410-8000, telephone (202) 708-3000.

• Regulation: 24 CFR 891.410(c).

Project/Activity: Estancias Presbiterianas del Angel, Hormigueros, Puerto Rico—FHA Project Number 056-EE056. The project is experiencing difficulty leasing units to eligible very low-income elderly applicants.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: David H. Stevens, Assistant Secretary for Housing—Federal Housing Commissioner.

Date Granted: April 5, 2011.

Reason Waived: The owner aggressively marketed units to eligible tenants but continues to experience vacancy problems at the project. It was determined that waiver of this regulation would allow the owner to lease units to low-income, near-elderly applicants for a period of 12 months. However, applicants who apply after the waiver period must strictly meet the Section 202 statutory and regulatory requirements, including being very low-income elderly. This waiver allowed the property to rent-up its vacant units and thereby stabilize the project's financial status and prevent foreclosure of the property.

Contact: Marilyn M. Edge, Acting Director, Office of Asset Management, Office of Housing, Department of Housing and Urban Development, 451 Seventh Street, SW., Washington, DC 20410-8000, telephone (202) 708-3730.

III. Regulatory Waivers Granted by the Office of Public and Indian Housing

For further information about the following regulatory waivers, please see the name of the contact person that immediately follows the description of the waiver granted.

• Regulation: 24 CFR 5.801(d)(1).

Project/Activity: Housing Authority of the County of Dauphin (PA035), Steelton, PA.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: April 22, 2011.

Reason Waived: The HA requested additional time to submit its fiscal year end (FYE) June 30, 2010, audited financial submission as a result of system and performance issues related to HUD systems. The waiver was granted and the additional time permitted the HA to enter all the financial information into REAC's on-line system and allowed the auditor to perform the agreed upon procedure. The HA was allowed to submit its audited financial data for FYE June 30, 2010, after the deadline but no later April 30, 2011.

Contact: Johnson Abraham, Program Manager, NASS, Real Estate Assessment Center, Office of Public and Indian Housing, Department of Housing and Urban Development, 550 12th Street, SW., Suite 100, Washington, DC 20410, telephone (202) 475-8583.

• Regulation: 24 CFR 5.801(d)(1).

Project/Activity: Santa Fe Civic Housing Authority (NM009), Santa Fe, NM.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: April 25, 2011.

Reason Waived: The HA contends that it had fallen behind in preparing its FYE 2010 audit due to difficulties encountered with the HA's takeover of the Espanola Housing Authority (EHA). The HA was supposed to absorb the EHA's Public Housing (PH), Capital Fund Program (CFP) and Housing Choice Voucher Program (HCVP). The HCVP was transferred prior to June 30, 2009. However, the PH and CFP were not transferred until late August 2010, with a retroactive date of July 1, 2009. At the time of the official notification of transfer from HUD to the HA, 80 percent of the FY2010 audit field work had already been completed. The additional complexities of the Low Rent and Capital Fund Program transfers delayed the HA in its audit time table. The waiver for its audited financial data for FYE June 30, 2010 was granted and it should submit its financial data no later than May 31, 2011.

Contact: Johnson Abraham, Program Manager, NASS, Real Estate Assessment Center, Office of Public and Indian Housing, Department of Housing and Urban Development, 550 12th Street, SW., Suite 100, Washington, DC 20410, telephone (202) 475-8583.

• Regulation: 24 CFR 5.801(d)(1).

Project/Activity: Oakland Housing Authority (CA003), Oakland, CA.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: May 16, 2011.

Reason Waived: The HA contends that as a result of a HUD Office of the Inspector General Investigation, additional time was needed to submit its fiscal year end (FYE) June 30, 2010, audited financial information. Specifically, as part of the investigation, the HA's financial records have been confiscated. Also, required representation letters to the HA's external auditor cannot be made until the materiality and significance has been determined. The waiver was granted and the additional time will permit the audited documentation to be adequately completed and allow ample time for the HA's drafting the financial statements and inputting the financial information into REAC's on-line system. The HA must submit its audited financial data for FYE June 30, 2010, on or before June 30, 2011.

Contact: Johnson Abraham, Program Manager, NASS, Real Estate Assessment Center, Office of Public and Indian Housing, Department of Housing and Urban Development, 550 12th Street, SW., Suite 100, Washington, DC 20410, telephone (202) 475-8583.

• Regulation: 24 CFR 5.801(d)(1).

Project/Activity: Housing Authority of the County of Santa Clara (CA059), San Jose, CA.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 8, 2011.

Reason Waived: The HA requested additional time to submit its fiscal year end (FYE) June 30, 2010, audited financial submission. The HA contends that it incurred a Section 8 program electronic loss due to technical problems. As a result of the data loss, financial information needed to be reconstructed. The auditors commenced the process of reviewing the reconstructed financial information. The waiver was granted and the additional time permitted the audit documentation to be completed and allowed ample time for drafting the financial statements and inputting the FYE June 30, 2010, audited financial information into the Real Estate Assessment's on-line system.

Contact: Johnson Abraham, Program Manager, NASS, Real Estate Assessment Center, Office of Public and Indian Housing, Department of Housing and Urban Development, 550 12th Street, SW., Suite 100, Washington, DC 20410, telephone (202) 475-8583.

• Regulation: 24 CFR 5.801(d)(1).

Project/Activity: Housing Authority of DeKalb County (GA237), Decatur, GA.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: June 8, 2011.

Reason Waived: The HA contends that additional time was needed to submit its fiscal year end (FYE) June 30, 2010, audited financial information. The HA has fallen behind in preparing its FYE 2010 audit as a result of turnover in key positions at the HA. Specifically, the HA did not have a Director of Finance from June 30, 2010, to mid November 2010. The HA did not have a permanent Executive Director from June 2010 to October 2010. The waiver was granted and the additional time will permit the audited documentation to be adequately completed and allow ample time for the HA's drafting the financial statements and inputting the financial information into REAC's on-line system.

Contact: Johnson Abraham, Program Manager, NASS, Real Estate Assessment Center, Office of Public and Indian Housing, Department of Housing and Urban Development, 550 12th Street, SW., Suite 100, Washington, DC 20410, telephone (202) 475-8583.

• Regulation: 24 CFR 902.40.

Project/Activity: Metropolitan Development and Housing Agency, (TN005), Nashville, TN.

Nature of Requirement: The regulation establishes that public housing agencies (PHAs) are required to submit a management operations certification under Public Housing Assessment System (PHAS). In accordance with Federal Register Notice (FR-5428-N-01), dated July 23, 2010, PHAs that requested and received an approved waiver for their management operations certification (MASS) for FYEs June 30, 2009, September 30, 2009, or December 31, 2009, were allowed to request another waiver for FYE June 30, 2010, September 30, 2010 or December 31, 2010.

Granted By: Sandra B. Henriquez, Assistant Secretary for Public and Indian Housing.

Date Granted: June 8, 2011.

Reason Waived: The HA requested a MASS waiver for fiscal year end (FYE) September 30, 2010, due to continued hardship claims, based on conversion to asset management. The HA received an approved MASS waiver for FYE September 30, 2009. The HUD field office, indicated that the hardship conditions had not changed but remained the same. The most recent management operations score of record will be carried over to the fiscal year being assessed.

Contact: Johnson Abraham, Program Manager, NASS, Real Estate Assessment Center, Office of Public and Indian Housing, Department of Housing and Urban Development, 550 12th Street, SW., Suite 100, Washington, DC 20410, telephone (202) 475-8583.

• Regulation: 24 CFR 902.40.

Project/Activity: McMinnville Housing Authority (TN053), McMinnville, TN.

Nature of Requirement: The regulation establishes that PHAs are required to submit a management operations certification under Public Housing Assessment System (PHAS). In accordance with Federal Register Notice (FR-5428-N-01), dated July 23, 2010, PHAs that requested and received an approved waiver for their management operations certification (MASS) for FYEs June 30, 2009, September 30, 2009, or December 31, 2009, may request another waiver for FYE June 30, 2010, September 30, 2010 or December 31, 2010.

Granted By: Sandra B. Henriquez, Assistant Secretary for Public and Indian Housing.

Date Granted: April 22, 2011.

Reason Waived: The HA requested a MASS waiver for the FYE December 31, 2010, in conjunction with its conversion to asset management. The HA concentrated its resources to meet the requirement of asset management, while the HA recovered from a direct lightning strike to its computer system in 2009. The HA contends that it would have had to manually recreate portions of the data needed to certify its MASS performance and would encounter a significant burden in trying to provide information using the current MASS certification format. The waiver was granted for FYE December 31, 2010. The most recent management operations score of record is to be carried over to the fiscal year being assessed.

Contact: Johnson Abraham, Program Manager, NASS, Real Estate Assessment Center, Office of Public and Indian Housing, Department of Housing and Urban Development, 550 12th Street, SW., Suite 100, Washington, DC 20410, telephone (202) 475-8583.

• Regulation: 24 CFR 982.505(c)(3).

Project/Activity: Wytheville Redevelopment and Housing Authority (WRHA), Wytheville, VA.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: April 21, 2011.

Reason Waived: This waiver was granted because this cost-saving measure would enable the WRHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: Michigan State Housing Development Authority (MSHDA), Detroit, MI.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: May 18, 2011.

Reason Waived: This waiver was granted because this cost-saving measure would enable the MSHDA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: Gainesville Housing Authority (GHA), Gainesville, FL.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 3, 2011.

Reason Waived: This waiver was granted because this cost-saving measure would enable the GHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: Wilmington Housing Authority (WHA), Wilmington, DE.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 6, 2011.

Reason Waived: This waiver was granted because this cost-saving measure would enable the WHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: Maryville Housing Authority (MHA), Maryville, TN.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 6, 2011.

Reason Waived: This waiver was granted because this cost-saving measure would enable the MHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: County of Hawaii Office of Housing and Community Development (CHOHCD), Hilo, HI.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 9, 2011.

Reason Waived: This waiver was granted because this cost-saving measure would enable the CHOHCD) to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: Bennington Housing Authority (BHA), Bennington, VT.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 29, 2011.

Reason Waived: This waiver was granted because this cost-saving measure would enable the BHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(c)(3).

Project/Activity: Pennsauken Housing Authority (PHA), Pennsauken, NJ.

Nature of Requirement: HUD's regulation at 24 CFR 982.505(c)(3) provides that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: June 30, 2011.

Reason Waived: This waiver was granted because this cost-saving measure would enable the PHA to manage its Housing Choice Voucher program within allocated budget authority and avoid the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(d).

Project/Activity: Providence Housing Authority, Providence, RI.

Nature of Requirement: This regulation states that a public housing agency may only approve a higher payment standard for a family as a reasonable accommodation if the higher payment standard is within the basic range of 90 to 110 percent of the fair market rent (FMR) for the unit size.

Granted By: Sandra B. Henriquez, Assistant Secretary for Public and Indian Housing.

Date Granted: April 21, 2011.

Reason Waived: The participant, who is disabled, requires a unit that is free of chemical fumes. To provide a reasonable accommodation to allow this client to move into a unit that meets the participant's needs, an exception payment standard was approved so the client could be assisted and pay no more than 40 percent of her adjusted income toward the family share, the Providence Housing Authority was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.505(d).

Project/Activity: Center for People with Disabilities (CPD), Boulder, CO.

Nature of Requirement: HUD's regulation at 24 CFR 982.505(d) provides that a public housing agency may only approve a higher payment standard for a family as a reasonable accommodation if the higher payment standard is within the basic range of 90 to 110 percent of the fair market rent (FMR) for the unit size.

Granted By: Sandra B. Henriquez, Assistant Secretary for Public and Indian Housing.

Date Granted: April 26, 2011.

Reason Waived: The participant, who is disabled, requires a modified unit and a live-in aide. To provide this reasonable accommodation and allow the rent to remain affordable, an exception payment standard was approved so the client could be assisted in the participant's current unit and pay no more than 40 percent of her adjusted income toward the family share, the CPD was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 982.517(b)(1).

Project/Activity: Housing Authority of the City of Fresno (HACF) and the Housing Authority of Fresno County (HAFC), Fresno, CA.

Nature of Requirement: HUD's regulation at 24 CFR 982.517(b)(1) provides that the utility allowance schedule must be determined based on the typical costs of utilities and services paid by energy conservative households.

Granted By: Sandra B. Henriquez, Assistant Secretary for Public and Indian Housing.

Date Granted: April 26, 2011.

Reason Waived: It was determined that approval of an energy efficient utility allowance schedule for Park Grove Commons would achieve the following: Helped to ensure that utility allowances accurately reflected the typical cost of utilities and services paid by energy conservative households that occupy housing of similar size in energy efficient building in the same locality; encourage the development of affordable energy efficient buildings by removing barriers caused by using utility allowances that are based on consumption data from properties that as a whole are not very energy efficient; and likely to increase the supply of energy efficient affordable housing units.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.55(b) and 983.153(a).

Project/Activity: Housing Authority of the City of Milwaukee (HACM), Milwaukee, WI.

Nature of Requirement: Both regulations state that a public housing agency (PHA) may not enter the Agreement to Enter into a Housing Assistance Payments contract under the project-based voucher (PBV) program with the owner until the subsidy layering review (SLR) is completed.

Granted By: Sandra B. Henriquez, Assistant Secretary for Public and Indian Housing.

Date Granted: April 22, 2011.

Reason Waived: The Wisconsin Housing and Economic Development Authority (WHEDA) conducted the SLR on Veterans Manor in May 2009 which was thought to be sufficient to meet the requirements above. However, since WHEDA was not an approved independent entity, a waiver was granted due to the misunderstanding. Subsequently, HUD performed the SLR for this project.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.253(b).

Project/Activity: Louisiana Housing Authority (LHA), New Orleans, LA.

Nature of Requirement: The regulation states that under the project-based voucher (PBV) program, the contract unit leased to each family must be appropriate for the size of the family under the public housing agency's (PHA) subsidy standards.

Granted By: Sandra B. Henriquez, Assistant Secretary for Public and Indian Housing.

Date Granted: June 27, 2011.

Reason Waived: The LHA's efforts to lease up units for the PBV permanent supportive housing (PSH) program had been hampered by the lack of available one-bedroom units in the post-Hurricane Katrina GO ZONE. The waiver allowed the LHA to solicit proposals from owners of two-bedroom units who are willing to rent such units that do not exceed 110 percent of the one-bedroom payment standard.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 983.259.

Project/Activity: Housing Authority of Thurston County (HATC), Thurston County, WA.

Nature of Requirement: HUD's regulation at 24 CFR 983.259 states that if a public housing agency (PHA) determines that a family is occupying a wrong-sized unit in the project-based voucher (PBV) program, it must promptly notify the family and the owner of this determination and of the PHA's offer of continued assistance in another unit. If the family does not accept the offer of continued assistance in another unit and does not move out of the PBV unit within a reasonable time, the PHA must terminate the housing assistance payments for the wrong-sized unit at the expiration of the reasonable period determined by the PHA.

Granted By: Sandra B. Henriquez, Assistant Secretary for Public and Indian Housing.

Date Granted: May 25, 2011.

Reason Waived: Two disabled household members (out of the original four members) required a wheelchair-accessible unit and accessible shower. The waiver was approved to allow these remaining household members to stay in their current oversized unit as a provision of a reasonable accommodation.

Contact: Laure Rawson, Acting Director, Housing Voucher Management and Operations Division, Office of Public Housing and Voucher Programs, Office of Public and Indian Housing, Department of Housing and Urban Development, 451 Seventh Street, SW., Room 4210, Washington, DC 20410; (202) 708-0477.

• Regulation: 24 CFR 985.101(a).

Project/Activity: Hamilton Township Housing Agency (HTHA), Hamilton Township, NJ.

Nature of Requirement: HUD's regulation at 24 CFR 985.101(a) states that a public housing agency must submit the HUD-required Section Eight Management Assessment Program (SEMAP) certification form within 60 calendar days after the end of its fiscal year or March 1, 2011.

Granted By: Sandra B. Henriquez, Assistant Secretary for Public and Indian Housing.

Date Granted: April 11, 2011.

Reason Waived: The executive director of the HTHA was ill for several weeks during the submission period and is the only one who has the rights to submit a SEMAP certification. This waiver allowed the HTHA to submit its SEMAP certification after the deadline.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 985.101(a).

Project/Activity: Lakewood Housing Authority (LHA), Lakewood, NJ.

Nature of Requirement: HUD's regulation at 24 CFR 985.101(a) states that a public housing agency must submit the HUD-required Section Eight Management Assessment Program (SEMAP) certification form within 60 calendar days after the end of its fiscal year or March 1, 2011.

Granted By: Sandra B. Henriquez, Assistant Secretary for Public and Indian Housing.

Date Granted: April 11, 2011.

Reason Waived: The executive director of the LHA was absent from the office for long periods of time due to illness and hospitalization. The deputy director passed away suddenly during the submission period. This waiver allowed the LHA to submit its SEMAP certification after the deadline.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

• Regulation: 24 CFR 985.101(a).

Project/Activity: Joplin Housing Authority (JHA), Joplin, MO.

Nature of Requirement: HUD's regulation at 24 CFR 985.101(a) states that a public housing agency must submit the HUD-required Section Eight Management Assessment Program (SEMAP) certification form within 60 calendar days after the end of its fiscal year ending March 1, 2011.

Granted By: Sandra B. Henriquez, Assistant Secretary for Public and Indian Housing.

Date Granted: April 11, 2011.

Reason Waived: The JHA's administrative offices were destroyed during the May 22, 2011 tornado.

Contact: Laure Rawson, Acting Director, Housing Voucher Management and Operations Division, Office of Public Housing and Voucher Programs, Office of Public and Indian Housing, Department of Housing and Urban Development, 451 Seventh Street, SW., Room 4210, Washington, DC 20410, telephone (202) 708-0477.

[FR Doc. 2011-24839 Filed 9-26-11; 8:45 am]

BILLING CODE 4210-67-P